DEPARTMENT OF THE INTERIOR

Bureau of Safety and Environmental Enforcement

[Docket ID BSEE-2013-0003; OMB Number 1014-0006; 134E1700D2 EEEE500000 ET1SF0000.DAQ000]

Information Collection Activities: Sulphur Operations; Submitted for Office of Management and Budget (OMB) Review; Comment Request

ACTION: 30-day Notice.

SUMMARY: To comply with the Paperwork Reduction Act of 1995 (PRA), we are notifying the public that we have submitted to OMB an information collection request (ICR) to renew approval of the paperwork requirements in the regulations under Subpart P, Sulphur Operations. This notice also provides the public a second opportunity to comment on the paperwork burden of these regulatory requirements.

DATES: You must submit comments by November 29, 2013.

ADDRESSES: Submit comments by either fax (202) 395-5806 or email (OIRA_Submission@omb.eop.gov) directly to the Office of Information and Regulatory Affairs, OMB, Attention: Desk Officer for the Department of the Interior (1014-0006). Please provide a copy of your comments to BSEE by any of the means below.

• Electronically: go to http://www.regulations.gov. In the Search box, enter BSEE-2013-0003 then click search. Follow the instructions to submit public comments and view all related materials. We will post all comments.

• Email nicole.mason@bsee.govcheryl.blundon@boemre.gov, fax (703) 787-1546, or mail or hand-carry comments to: Department of the Interior; Bureau of Safety and Environmental Enforcement; Regulations and Standards Branch; Attention: Nicole Mason; 381 Elden Street, HE3313; Herndon, Virginia 20170-4817. Please reference 1014-0006 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION: Title: 30 CFR 250, Subpart P, Sulphur Operations.

OMB Control Number: 1014-0006.

Abstract: The Outer Continental Shelf (OCS) Lands Act, as amended (43 U.S.C. 1331 et seq. and 43 U.S.C. 1801 et seq.), authorizes the Secretary of the Interior to prescribe rules and regulations necessary for the administration of the leasing provisions of that Act related to mineral resources on the OCS. Such rules and regulations will apply to all operations conducted under a lease, right-of-way, or a right-of-use and easement. Operations on the OCS must preserve, protect, and develop mineral resources in a manner that is consistent with the need to make such resources available to meet the Nation's energy needs as rapidly as possible; balance orderly energy resource development with protection of human, marine, and coastal environments; ensure the public a fair and equitable return on the resources of the OCS; and preserve and maintain free enterprise competition.

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

Regulations implementing these responsibilities are under 30 CFR part 250. Responses are mandatory and/or required to obtain or retain a benefit. No questions of a sensitive nature are asked. The BSEE will protect proprietary information according to the Freedom of Information Act (5 U.S.C. 552) and its implementing regulations (43 CFR 2); 30 CFR 250.197, Data and information to be made available to the public or for limited inspection; and 30 CFR part 252, OCS Oil and Gas Information Program.

The BSEE uses the information collected to ascertain the condition of drilling sites for the purpose of preventing hazards inherent in sulphur drilling and production operations and to evaluate the adequacy of equipment and/or procedures to be used during the conduct of drilling, well-completion, well-workover, and production operations. The BSEE uses the information to:

• Ascertain that a discovered sulphur deposit can be classified as capable of production in paying quantities.

• Ensure accurate and complete measurement of production to determine the amount of sulphur royalty payments due the United States; and that the sale locations are secure, production has been measured accurately, and appropriate follow-up actions are initiated.

• Ensure the adequacy and safety of firefighting systems; the drilling unit is fit for the intended purpose; and the adequacy of casing for anticipated conditions.

• Review drilling, well-completion, well-workover diagrams and procedures, as well as production operation procedures to ensure the safety of the proposed sulphur drilling, well-completion, well-workover and proposed production operations.

• Monitor environmental data during sulphur operations in offshore areas where such data are not already available to provide a valuable source of information to evaluate the performance of drilling rigs under various weather and ocean conditions. This information is necessary to make reasonable determinations regarding safety of operations and environmental protection.

Frequency: Submissions are on occasion and generally vary by section.

Description of Respondents: Potential respondents comprise Federal OCS sulphur lessees.

Estimated Reporting and Recordkeeping Hour Burden: The estimated annual hour burden for this information collection is a total of 903 hours. The following chart details the individual components and estimated hour burdens. In calculating the burdens, we assumed that respondents perform certain requirements in the normal course of their activities. We consider these to be usual and customary and took that into account in estimating the burden.

Citation 30 CFR 250 subpart P | Reporting and recordkeeping requirement | Hour burden | Average number of annual reponses | Annual burden hours
Submittals/Notifications
1600; 1617 | Submit exploration or development and production plan, under 30 CFR 550, Subpart B | Burden covered under (1010-0151) |  | 0
1605(b)(2), (3) | Make drilling units available for inspection; submit and/or resubmit data and information on fitness of drilling unit | 4 | 1 submission | 4
1605(d) | Submit results of additional surveys and soil borings upon request | 1 | 1 submission | 1
1605(f) | Submit application for installation of fixed drilling platforms or structures | Burden covered under (1014-0011) |  | 0
1608(a), (c) | Submit well casing and cementing plan or modification | 5 | 1 plan | 5
1617; 1622(b) | Submit form BSEE-0123 (Application for Permit to Drill), and all supporting documentation | Burden covered under (1014-0018) |  | 0
1618; 1619(b); 1622(a), (c) | Submit form BSEE-0124 (Application for Permit to Modify), and all supporting documentation | Burden covered under (1014-0018) |  | 0
1619(b); 1622(c) | Submit form BSEE-0125 (End of Operations Report); and all supporting documentation | Burden covered under (1014-0018) |  | 0
1619(c), (d), (e) | Submit copies of records, logs, reports, charts, etc., upon request | 1 | 8 submissions | 8
1628(b), (d) | Submit application for design and installation features of sulphur production facilities and fuel gas safety system; certify new installation conforms to approved design | 4 | 1 application | 4
1630(a)(6) | Notify BSEE of pre-production test and inspection of safety system and commencement of production | 0.5 | 2 notifications | 1
1633(b) | Submit application for method of production measurement | 2 | 1 application | 2
Subtotal | 15 responses | 25
Requests
1603(a) | Request determination whether sulphur deposit can produce in paying quantities | 1 | 1 request | 1
1605(e)(5) | Request copy of directional survey (by holder of adjoining lease) | 1 | 1 request | 1
1607 | Request establishment, amendment, or cancellation of field rules for drilling, well-completion, or well-workover | 8 | 2 requests | 16
1610(d)(7), (8) | Request exception to ram-type blowout preventer (BOP) system components rated working pressure | 1 | 1 request | 1
1611(b); 1625(b) | Request exception to water-rated working pressure to test ram-type and annular BOPs and choke manifold | 1 | 1 request | 1
1611(f); 1625(f) | Request exception to recording pressure conditions during BOP tests on pressure charts; certify by representative | 1 | 1 request | 1
1612 | Request exception to § 250.462 requirements for well-control drills | 1 | 1 request | 1
1615 | Request exception to blind-shear ram or pipe rams and inside BOP to secure wells | 1 | 1 request | 1
1629(b)(3) | Request approval of firefighting systems; post firefighting system diagram | 4 | 1 request | 4
1608(b), (c); 1629(b)(3); 1600-1634 | General departure and/or alternative compliance requests not specifically covered elsewhere in Subpart P | 2 | 1 request | 2
Subtotal | 11 responses | 29
Record/Retain
1604(f) | Check traveling-block safety device for proper operation weekly and after each drill-line slipping; enter results in log | 0.25 | 1 lessee × 52 wks × 2 rigs = 104 | 26
1605(c) | Report oceanographic, meteorological, and drilling unit performance data upon request | 1 | 1 report | 1
1609(a) | Pressure test casing; record time, conditions of testing, and test results in log | 2 | 1 lease × 60 tests/records = 60 | 120
1611(d)(3); 1625(d)(3) | Record in driller's report the date, time, and reason for postponing pressure testings | 0.17 | 1 lessee × 6 recordings = 6 | 1
1611(f), (g); 1625(f), (g) | Conduct tests, actuations, inspections, maintenance, and crew drills of BOP systems at least weekly; record results in driller's report; certify by representative; retain records for 2 years following completion of drilling activity | 6 | 1 lessee × 52 weeks = 52 | 312
1613(d) | Pressure test diverter sealing element/valves weekly; actuate diverter sealing element/valves/control system every 24 hours; test diverter line for flow every 24 hours; record test times and results in driller's report | 2 | 1 lessee (daily/weekly during drilling) × 2 rigs × 52 weeks = 104 | 208
1616(c) | Retain training records for lessee and drilling contractor personnel | Burden covered under 1014-0008 |  | 0
1619(a); 1623(c) | Retain records for each well and all well operations for 2 years; calculate well-control fluid volume and post near operators' station | 12 | 1 lessee | 12
1621 | Conduct safety meetings prior to well-completion or well-workover operations; record date and time | 1 | 1 lessee × 50 meetings/ records = 50 | 50
1628(b), (d) | Maintain information on approved design and installation features for the life of the facility | 1 | 1 lessee | 1
1629(b)(1)(ii) | Retain pressure-recording charts used to determine operating pressure ranges for 2 years | 12 | 1 lessee | 12
1630(b) | Maintain records for each safety device installed for 2 years; make available for review | 1 | 1 lessee | 1
1631 | Conduct safety device training prior to production operations and periodically thereafter; record date and time | 1 | 1 lessee × 52 train/records × 2 rigs = 104 | 104
1634(b) | Report evidence of mishandling of produced sulphur or tampering or falsifying any measurement of production | 1 | 1 report | 1
Subtotal | 486 responses | 849
Total Burden | 512 responses | 903 Hours

Estimated Reporting and Recordkeeping Non-Hour Cost Burden: We have identified no non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on July 16, 2013, we published a Federal Register notice (78 FR 42538) announcing that we would submit this ICR to OMB for approval. The notice provided the required 60-day comment period. Also, 30 CFR 250.199 explains that BSEE will accept comments at any time on the information collection requirements and burdens of our 30 CFR part 250 regulations. We display the OMB control number and provide the address to which they should send comments. We received two comments in response to the Federal Register notice; however, neither was germane to this information collection. These are not new regulatory requirements and only an estimate of minimal burden for a potential respondent.

Public Availability of Comments: Before including your address, phone number, email address, or other personal identifying information in your comment, you should be aware that your entire comment—including your personal identifying information—may be made publicly available at any time. While you can ask us in your comment to withhold your personal identifying information from public review, we cannot guarantee that we will be able to do so.

BSSE Information Collection Clearance Officer: Cheryl Blundon (703) 787-1607.

Dated: October 22, 2013.
Robert W. Middleton,
Deputy Chief, Office of Offshore Regulatory Programs.

[FR Doc. 2013-25433 Filed 10-28-13; 8:45 am]

BILLING CODE 4310-VH-P